FEDERAL MINE SAFETY AND HEALTH REVIEW COMMISSION

Sunshine Act Meeting

October 10, 2007.

Time and Date: 10 a.m., Tuesday, October 23, 2007.

Place: The Richard V. Backley Hearing Room, 9th Floor, 601 New Jersey Avenue, NW., Washington, DC.

Status: Open.

Matters to be Considered: The Commission will hear oral argument in the matters Secretary of Labor v. Emerald Coal Resources, LP, Docket No. PENN 2007-251-E, and Secretary of Labor v. Cumberland Coal Resources, LP, Docket No. PENN 2007-252-E. (Issues include whether the Administrative Law Judge erred in upholding the Secretary's decision to require that the operators' Emergency Response Plans (ERPs) contain provisions mandating that the operators provide purchase orders for rescue chambers.)

Any person attending this oral argument who requires special accessibility features and/or auxiliary aids, such as sign language interpreters, must inform the Commission in advance of those needs. Subject to 29 CFR 2706.150(a)(3) and 2706.160(d).

Contact Person for More Info: Jean Ellen (202) 434-9950/(202) 708-9300 for TDD Relay/1-800-877-8339 for toll free.

Jean H. Ellen,
Chief Docket Clerk.

[FR Doc. 07-5191 Filed 10-17-07; 12:09 pm]

BILLING CODE 6735-01-M